NATIONAL SCIENCE FOUNDATION

Proposal Review Panel for International Science and Engineering; Notice of Meeting

In accordance with the Federal Advisory Committee Act (Pub. L. 92-463, as amended), the National Science Foundation (NSF) announces the following meeting:

Name and Committee Code: Proposal Review Panel for Office of International Science and Engineering—PIRE: Translating Cognitive and Brain Science in the Laboratory and Field to Language Learning Environments—Reverse Site Visit (#10749).

Date and Time: October 25, 2018; 8:00 a.m.-5:00 p.m.

Place: National Science Foundation, 2415 Eisenhower Avenue, Alexandria, Virginia 22314.

Type of Meeting: Part-Open.

Contact Person: Cassandra Dudka, PIRE Program Manager, National Science Foundation, 2415 Eisenhower Avenue, Alexandria, VA 22314; Telephone 703/292-7250.

Purpose of Meeting: NSF reverse site visit to conduct a review during year 3 of the five-year award period. To conduct an in-depth evaluation of performance, to assess progress towards goals, and to provide recommendations.

Agenda: See attached.

Reason for Closing: Topics to be discussed and evaluated during closed portions of the site review will include information of a proprietary or confidential nature, including technical information; and information on personnel. These matters are exempt under 5 U.S.C. 552b(c), (4) and (6) of the Government in the Sunshine Act.

Dated: September 17, 2018.
Crystal Robinson,
Committee Management Officer.

National Science Foundation, 2415 Eisenhower Avenue, Alexandria, VA 22314

Partnerships for International Research and Education (PIRE)

Reverse Site Visit Agenda—NSF Room C3010

Thursday, October 25, 2018

8:00 a.m. Panelists arrive. Coffee/light refreshments available.

8:15 a.m.-8:45 a.m. Panel Orientation—(CLOSED)

PIRE Rationale and Goals, Charge to Panel

8:45 a.m. PIs arrive. Introductions. (OPEN)

9:00 a.m.-11:30 a.m. PIRE Project Presentation should cover the following: (OPEN)

Research

Integrating Research & Education

Students (e.g. involvement in project, recruitment, diversity)

Project Management and Communication

Evaluation & Assessment

Institutional Support

International Partnerships

11:30 a.m.-12:30 p.m. Questions and Answers

12:30 p.m.—2:00 p.m. Working Lunch—Panel Discussion—(CLOSED)

2:00 p.m.-2:30 p.m. Initial Feedback to Project Team (CLOSED)

2:30 p.m. PIRE PI and presenters are dismissed

2:30 p.m.-4:30 p.m. Panel meets for Reverse Site Visit Report

Preparation—(CLOSED)

4:30 p.m.-4:45 p.m. Report presented to and discussion held with NSF staff—(CLOSED)

5:00 p.m. End of Reverse Site Visit

[FR Doc. 2018-20454 Filed 9-19-18; 8:45 am]

BILLING CODE 7555-01-P